DEPARTMENT OF JUSTICE

Procurement Collusion Strike Force Complaint Form; Correction

AGENCY: Antitrust Division, Department of Justice.

ACTION: Notice; correction.

SUMMARY: The Antitrust Division, Department of Justice (DOJ), published a document in the Federal Register of August 1, 2023, concerning request for comments on the Procurement Collusion Strike Force Complaint Form.

DATES: Submit comments on the Procurement Collusion Strike Force Complaint Form on or before October 2, 2023.

FOR FURTHER INFORMATION CONTACT: Sarah Oldfield, 202-305-8915.

SUPPLEMENTARY INFORMATION:

Correction

In the Federal Register of August 1, 2023, in FR Doc. 2023-16290, on page 50177, second column, in the AGENCY and SUMMARY captions, correct the agency name to read: Antitrust Division.

Dated: August 17, 2023.
Darwin Arceo,
Department Clearance Officer for PRA, U.S. Department of Justice.

[FR Doc. 2023-18218 Filed 8-23-23; 8:45 am]

BILLING CODE 4410-18-P